DEPARTMENT OF THE INTERIOR

Bureau of Land Management

[ES-956-1420-BK ES-047171, Group 152, Wisconsin]

Notice of Cancellation of a Portion of Plat of Survey

On March 23, 1995 there was published in the Federal Register, Volume 60, Number 56, on page 15301 a notice entitled “Filing of Plat of Survey; Wisconsin.” In said notice was a plat depicting the survey of two islands located in Township 7 North, Range 22 East, Tracts 37 and 38, Fourth Principal Meridian, Wisconsin, accepted March 13, 1995.

The plat, specifically the portion identified as Tract 37, has been cancelled effective December 11, 2014.

Dominica VanKoten,
Chief Cadastral Surveyor.

[FR Doc. 2015-05901 Filed 3-13-15; 8:45 am]

BILLING CODE P